DEPARTMENT OF AGRICULTURE

Forest Service

Eastern Washington Cascades Provincial Advisory Committee and the Yakima Provincial Advisory Committee

AGENCY: Forest Service, USDA.

ACTION: Notice of meeting.

SUMMARY: The Eastern Washington Cascades Provincial Advisory Committee and the Yakima Provincial Advisory Committee will meet on April 27, 2010 at the Washington State Parks and Recreation Commission office, 270 9th Street, NE., East Wenatchee, WA. During this meeting information will be shared about Okanogan-Wenatchee National Forest Restoration Strategy and provide an opportunity for the Provincial Advisory Committee to provide feedback. All Eastern Washington Cascades and Yakima Province Advisory Committee meetings are open to the public.

FOR FURTHER INFORMATION CONTACT: Direct questions regarding this meeting to Clint Kyhl, Designated Federal Official, USDA, Okanogan-Wenatchee National Forest, 215 Melody Lane, Wenatchee, Washington 98801, phone 509-664-9200.

Dated: March 23, 2010.
Clinton Kyhl,
Designated Federal Official, Okanogan-Wenatchee National Forest.

[FR Doc. 2010-7351 Filed 3-31-10; 8:45 am]

BILLING CODE 3410-11-P